DEPARTMENT OF COMMERCE

National Oceanic and Atmospheric Administration

[RTID 0648-XD917]

Pacific Islands Pelagic Fisheries; American Samoa Longline Limited Entry Program

AGENCY: National Marine Fisheries Service (NMFS), National Oceanic and Atmospheric Administration (NOAA), Commerce.

ACTION: Notice; availability of permits.

SUMMARY: NMFS announces that 34 American Samoa pelagic longline limited entry permits in two permit size classes are available for 2024. NMFS is accepting applications for these available permits.

DATES: NMFS must receive complete permit applications including payment by August 29, 2024.

ADDRESSES: Download a blank application from the NOAA Fisheries website: https://www.fisheries.noaa.gov/permit/american-samoa-longline-limited-entry-permit. Submit your application and pay the processing fee electronically per instructions at https://www.fisheries.noaa.gov/pacific-islands/commercial-fishing/apply-pacific-islands-fishing-permit.

FOR FURTHER INFORMATION CONTACT: Walter Ikehara, NMFS Pacific Islands Regional Office (PIRO), Sustainable Fisheries, tel 808-725-5175 or email PIRO-permits@noaa.gov.

SUPPLEMENTARY INFORMATION: Federal regulations at 50 CFR 665.816 allow NMFS to re-issue permits for the American Samoa pelagic longline limited entry program if the number of permits falls below the maximum allowed. At least 34 permits are available for issuance in the following permit size classes, as follows:

• 21 in Small (vessels up to 50 feet or 15.24 meters in overall length), and

• 13 in Large (vessels overall length 50 feet or 15.24 meters and longer).

Please note that the number of available permits may change before the application period closes. Applicants must specify the permit size class (one only) for which they are applying on the application form.

If there are more applications than available permits in a particular size class, the Regional Administrator shall issue permits to persons according to the following priority standard:

(i) Priority accrues to the person with the earliest documented participation in the pelagic longline fishery in the Exclusive Economic Zone (EEZ) around American Samoa from smallest to largest vessel; and

(ii) In the event of a tie in the priority ranking between two or more applicants, the applicant whose second documented participation in the pelagic longline fishery in the EEZ around American Samoa is first in time will be ranked first in priority. If there is still a tie between two or more applicants, the Regional Administrator will select the successful applicant by an impartial lottery.

NMFS will only consider complete applications, which must include the completed and signed application form, copy of current United States Coast Guard Certificate of Documentation or state or territory vessel registration, evidence of documented participation in the fishery if needed for prioritization, and non-refundable payment of the application processing fee. Incomplete applications may be abandoned 30 days after receipt if deficiencies are not addressed.

Documented participation means participation proved by, but not necessarily limited to, a properly submitted NMFS or American Samoa logbook, an American Samoa creel survey record, a delivery or payment record from an American Samoa-based cannery, retailer or wholesaler, an American Samoa tax record, an individual wage record, ownership title, vessel registration, or other official documents showing:

(i) Ownership of a vessel that was used to fish in the EEZ around American Samoa; or

(ii) Evidence of work on a fishing trip during which longline gear was used to harvest western Pacific pelagic management unit species in the EEZ around American Samoa. If the applicant does not possess the necessary documentation of evidence of work on a fishing trip based on records available only from NMFS or the Government of American Samoa (e.g., creel survey record or logbook), the applicant may issue a request to PIRO to obtain such records from the appropriate agencies, if available. The applicant should provide sufficient information on the fishing trip to allow PIRO to retrieve the records.

If an applicant requests NMFS, in writing, to use NMFS longline logbook data as evidence of documented participation, the applicant must specify the qualifying vessel, official number, and month and year of the logbook records. NMFS will not conduct an unlimited search for records.

NMFS must receive applications by August 29, 2024 to be considered for a permit (see ADDRESSES). NMFS will not accept applications received after that date.

Authority: 16 U.S.C. 1801 et seq.

Dated: April 26, 2024.
Everett Wayne Baxter,
Acting Director, Office of Sustainable Fisheries, National Marine Fisheries Service.

[FR Doc. 2024-09388 Filed 4-30-24; 8:45 am]

BILLING CODE 3510-22-P